FEDERAL COMMUNICATIONS COMMISSION

47 CFR Parts 13 and 80

[WT Docket No. 00-48; FCC 06-129]

Maritime Communications

AGENCY: Federal Communications Commission.

ACTION: Final rule.

SUMMARY: In this document, the Federal Communications Commission (Commission or FCC) furthers its ongoing efforts to ensure that its rules governing the Maritime Radio Services continue to promote maritime safety, maximize effective and efficient use of the spectrum available for maritime communications, accommodate technological innovation, avoid unnecessary regulatory burdens, and maintain consistency with international maritime standards to the extent consistent with the United States public interest. The Commission also seeks in this proceeding to ensure that it regulates the Maritime Radio Services in a manner that advances our nation's homeland security.

DATES: This regulation is effective March 25, 2008. The incorporation by reference of certain publications listed in the rule is approved by the Director of the Federal Register as of March 25, 2008.

FOR FURTHER INFORMATION CONTACT: Jeffrey Tobias, Jeff.Tobias@FCC.gov, Wireless Telecommunications Bureau, (202) 418-1617, or TTY (202) 418-7233.

SUPPLEMENTARY INFORMATION: This is a summary of the Federal Communications Commission's Memorandum Opinion and Order and Third Report and Order in WT Docket No. 00-48, FCC 06-129, adopted on August 29, 2006, and released on September 8, 2006. The full text of this document is available for inspection and copying during normal business hours in the FCC Reference Center, 445 12th Street, SW., Washington, DC 20554. The complete text may be purchased from the Commission's copy contractor, Best Copy and Printing, Inc., 445 12th Street, SW., Room CY-B402, Washington, DC 20554. The full text may also be downloaded at: http://www.fcc.gov. Alternative formats are available to persons with disabilities by sending an e-mail to http://fcc504@fcc.gov or by calling the Consumer & Governmental Affairs Bureau at 202-418-0530 (voice), 202-418-0432 (tty).

1. The WT Docket No. 00-48 rulemaking proceeding was established to develop rules for domestic implementation of the Global Maritime Distress and Safety System (GMDSS), a ship-to-shore and ship-to-ship distress communications system using satellite and digital selective calling (DSC) technology. The Memorandum Opinion and Order (MO&O) in WT Docket No. 00-48 addresses the petitions for reconsideration of the Report and Order in this proceeding. The Commission takes the following significant actions in the MO&O in WT Docket No. 00-48: (i) Clarifies that applicants for a GMDSS Radio Operator's License do not have to take an Element 1 examination if they have received a Proof of Passing Certificate (PPC) based on completion of a Coast Guard-approved training course; (ii) clarifies the requirement of ship radio station operators to relay distress alerts from other ships that are not promptly acknowledged by a coast station; (iii) removes the sunset date for the Channel 16 watch requirement; (iv) relieves vessels that have upgraded to MF-DSC equipment of the requirement to maintain a watch on the frequency 2182 kHz; (v) modifies the requirements for station logs; and (vi) permits routine calling on DSC frequencies.

2. The Commission takes the following significant actions in the Third Report and Order in WT Docket No. 00-48: (i) Requires, after prescribed transition periods, that DSC equipment comply with the more rigorous technical standards recently established for such equipment by international bodies; (ii) adds the INMARSAT Fleet F77 ship earth station to the list of satellite earth stations that may be used in lieu of single sideband (SSB) radios by ships operating more than one hundred nautical miles from shore; (iii) mandates that additional classes of small passenger vessels carry a reserve power source to better ensure against loss of communications capabilities during distress situations; (iv) extends the license term for GMDSS Radio Operator's Licenses, Restricted GMDSS Radio Operator's Licenses, GMDSS Radio Maintainer's Licenses, GMDSS Operator/Maintainer Licenses, and Marine Radio Operator Permits to the lifetime of the holder; (v) relaxes certain rules to give both the Commission and commercial operator license examination (COLE) managers additional flexibility in administering the license examination process; (vi) adopts rules to regulate Ship Security Alert System (SSAS) beacons designed to operate with the COSPAS-SARSAT satellite system, and to authorize use of Inmarsat D+ equipment as an additional accommodation of SSAS operations; and (vii) permits the programming of channels in maritime radio transmitters through remote control.

I. Procedural Matters

A. Paperwork Reduction Act Analysis

3. This document contains a modified information collection requirement subject to the Paperwork Reduction Act of 1995 (PRA), Public Law 104-13. It was submitted and approved by Office of Management and Budget (OMB) for review under section 3507(d) of the PRA. OMB, the general public, and other Federal agencies were invited to comment on the new or modified information collection requirements contained in this proceeding. In addition, we note that pursuant to the Small Business Paperwork Relief Act of 2002, Public Law 107-198, see 44 U.S.C. 3506(c)(4), we previously sought specific comment on how the Commission might “further reduce the information collection burden for small business concerns with fewer than 25 employees.”

4. In this present document, we have assessed the effects of amending § 80.409(e) of the Commission's rules to reduce the types of distress communications that must be entered into logs by ship station operators, and find that this relaxation of the log-keeping requirement will benefit businesses with fewer than 25 employees by allowing such businesses that own or operate vessels to devote fewer resources to log-keeping. Most significantly, this reduction of an existing information collection requirement will permit the employee charged with making log entries to devote more of his or her time to other tasks that will enhance the navigational safety of the vessel.

B. Report to Congress

5. The Commission sent a copy of this Memorandum Opinion and Order and Third Report and Order in a report to Congress and the Government Accountability Office pursuant to the Congressional Review Act, see 5 U.S.C. 801(a)(1)(A).

C. Final Regulatory Flexibility Analysis

6. As required by the Regulatory Flexibility Act of 1980, as amended (RFA), an Initial Regulatory Flexibility Analysis (IRFA) was incorporated in the Second Further Notice of Proposed Rule Making at 69 FR 64664, November 8, 2004, in this proceeding (Second FNPRM). The Commission sought written public comment on the proposals in the Second FNPRM, including comment on the IRFA. This present Final Regulatory Flexibility Analysis (FRFA) conforms to the RFA.

Need for, and Objectives of, the Report and Order

7. The rules adopted in the Third Report and Order are intended to streamline, consolidate and clarify the Commission's part 80 rules; remove unnecessary or duplicative requirements; address new international maritime requirements; promote flexibility and efficiency in the use of marine radio equipment; and further maritime safety. Specifically, in the Third Report and Order the Commission (a) requires that DSC equipment comply with the most recent international standards for such equipment; (b) adds the INMARSAT Fleet F77 earth station to the list of ship earth stations that may be carried in lieu of a single sideband radio by vessels operating more than 100 nautical miles from shore; (c) expands the types of small passenger vessels that are required to carry a reserve power supply; (d) extends the license terms of GMDSS Radio Operator's Licenses, Restricted GMDSS Radio Operator's Licenses, GMDSS Radio Maintainer Licenses, GMDSS Operator/Maintainer Licenses, and Marine Radio Operator Permits from five years to the lifetime of the holder; (e) modifies the requirement that commercial operator license examination (COLE) managers use only the most recent question pool available to the public; (f) removes regulatory language specifying the specific number of questions to be used for each examination element; (g) adopts rules authorizing COSPAS-SARSAT and INMARSAT D+ equipment for use in the Ship Security Alert System; (h) updates references to international standards; (i) makes certain on-board frequencies available for narrowband operations; (j) permits remote control programming of maritime radio transmitters; (k) declines to eliminate limits on emission designators on non-distress frequencies; (l) declines to remove rules pertaining to Morse code radiotelegraphy; (m) declines to take action on certain proposals regarding frequency allotments and limitations for ship facsimile communications, radiotelephone public correspondence communications, and private maritime communications; and (n) adopts a number of non-substantive amendments to update and clarify the maritime radio service rules and correct typographical errors.

Summary of Significant Issues Raised by Public Comments in Response to the IRFA

8. No comments were submitted specifically in response to the IRFA. However, some commenters raised concerns about the effect that two of the rule changes might have on small entities. Specifically, the Passenger Vessel Association (PVA) and the North Pacific Marine Radio Council (NPMRC) expressed concern about the burden on small entities of being required to comply with the more rigorous international standards that have been developed for digital selective calling (DSC) radio equipment. In addition, the National Marine Charter Association (NMCA) and PVA expressed concern about the burden of having to carry a reserve power supply on small entities who own or operate small passenger vessels of less than 100 gross tons. We have considered the potential economic impact on small entities of these rules and the other rules discussed in the IRFA, and we have considered alternatives that would reduce the potential economic impact on small entities of the rules enacted herein, regardless of whether the potential economic impact was discussed in any comments.

Description and Estimate of the Number of Small Entities to Which Rules Will Apply

9. The RFA directs agencies to provide a description of and, where feasible, an estimate of the number of small entities that may be affected by the proposed rules, if adopted. The RFA defines the term “small entity” as having the same meaning as the terms “small business,” “small organization,” and “small governmental jurisdiction.” In addition, the term “small business” has the same meaning as the term “small business concern” under the Small Business Act. A small business concern is one which (1) is independently owned and operated; (2) is not dominant in its field of operation; and (3) satisfies any additional criteria established by the Small Business Administration (SBA).

10. Small businesses in the aviation and marine radio services use a marine very high frequency (VHF), medium frequency (MF), or high frequency (HF) radio, any type of emergency position indicating radio beacon (EPIRB) and/or radar, an aircraft radio, and/or any type of emergency locator transmitter (ELT). The Commission has not developed a definition of small entities specifically applicable to these small businesses. For purposes of this FRFA, therefore, the applicable definition of small entity is the definition under the SBA rules applicable to wireless telecommunications. Pursuant to this definition, a “small entity” for purposes of the ship station licensees, public coast station licensees, or other marine radio users that may be affected by these rules, is any entity employing 1,500 or fewer persons. 13 CFR 121.201 (NAICS Code 517212).

11. Nationwide, there are a total of approximately 22.4 million small businesses, according to SBA data. A “small organization” is generally “any not-for-profit enterprise which is independently owned and operated and is not dominant in its field.” Nationwide, as of 2002, there were approximately 1.6 million small organizations. The term “small governmental jurisdiction” is defined generally as “governments of cities, towns, townships, villages, school districts, or special districts, with a population of less than fifty thousand.” Census Bureau data for 2002 indicate that there were 87,525 local governmental jurisdictions in the United States. We estimate that, of this total, 84,377 entities were “small governmental jurisdictions.” Thus, we estimate that most governmental jurisdictions are small.

12. Wireless Service Providers. The SBA has developed a small business size standard for wireless firms within the two broad economic census categories of “Paging” and “Cellular and Other Wireless Telecommunications.” Under both categories, the SBA deems a wireless business to be small if it has 1,500 or fewer employees. For the census category of Paging, Census Bureau data for 2002 show that there were 807 firms in this category that operated for the entire year. Of this total, 804 firms had employment of 999 or fewer employees, and three firms had employment of 1,000 employees or more. Thus, under this category and associated small business size standard, the majority of firms can be considered small. For the census category of Cellular and Other Wireless Telecommunications, Census Bureau data for 2002 show that there were 1,397 firms in this category that operated for the entire year. Of this total, 1,378 firms had employment of 999 or fewer employees, and 19 firms had employment of 1,000 employees or more. Thus, under this second category and size standard, the majority of firms can, again, be considered small.

13. VHF Public Coast Stations. Some of the rules adopted herein affect VHF public coast station licensees. The Commission has defined the term “small entity” specifically applicable to public coast station licensees as any entity employing less than 1,500 persons, based on the definition under the Small Business Administration rules applicable to radiotelephone service providers. See Amendment of the Commission's Rules Concerning Maritime Communications, Third Report and Order and Memorandum Opinion and Order, 13 FCC Rcd 19853, 19893 (1998) (citing 13 CFR 121.201, Standard Industrial Classification (SIC) Code 4812, now NAICS Code 513322).

14. Marine Radio Equipment Manufacturers. Some of the rules adopted herein may also affect small businesses that manufacture marine radio equipment. The Commission has not developed a definition of small entities applicable to marine radio equipment manufacturers. Therefore, the applicable definition is that for Wireless Communications Equipment Manufacturers. The Census Bureau defines this category as follows: “This industry comprises establishments primarily engaged in manufacturing radio and television broadcast and wireless communications equipment. Examples of products made by these establishments are: transmitting and receiving antennas, cable television equipment, GPS equipment, pagers, cellular phones, mobile communications equipment, and radio and television studio and broadcasting equipment.” The SBA has developed a small business size standard for Radio and Television Broadcasting and Wireless Communications Equipment Manufacturing, which is: all such firms having 750 or fewer employees. According to Census Bureau data for 2002, there were a total of 1,041 establishments in this category that operated for the entire year. Of this total, 1,010 had employment of under 500, and an additional 13 had employment of 500 to 999. Thus, under this size standard, the majority of firms can be considered small.

15. Small businesses in the aviation and marine radio services use a very high frequency (VHF) marine or aircraft radio and, as appropriate, an emergency position-indicating radio beacon (and/or radar) or an emergency locator transmitter. The Commission has not developed a small business size standard specifically applicable to these small businesses. For purposes of this analysis, the Commission uses the SBA small business size standard for the category “Cellular and Other Wireless Telecommunications,” which is 1,500 or fewer employees. Between December 3, 1998 and December 14, 1998, the Commission held an auction of 42 VHF Public Coast (VPC) licenses in the 157.1875-157.4500 MHz (ship transmit) and 161.775-162.0125 MHz (coast transmit) bands. For purposes of the auction, the Commission defined a “small” business as an entity that, together with controlling interests and affiliates, has average gross revenues for the preceding three years not to exceed fifteen million dollars. In addition, a “very small” business is one that, together with controlling interests and affiliates, has average gross revenues for the preceding three years not to exceed three million dollars. There are approximately 10,672 licensees in the Marine Coast Service, and the Commission estimates that almost all of them qualify as “small” businesses under the above special small business size standards.

Description of Projected Reporting, Recordkeeping, and Other Compliance Requirements for Small Entities

16. In the Third Report and Order, we adopt two rule amendments that may affect reporting, recordkeeping and other compliance requirements for small entities. First, we amend § 80.225 of the rules to require that DSC equipment comply with more rigorous technical standards adopted by international bodies, ITU-R Recommendation M.493-11, ITU-R Recommendation M.541-9, and, in the case of Class D DSC radio equipment, IEC 62238. This rule amendment could affect small entities that manufacture DSC equipment or that own or operate vessels required to carry DSC equipment. Second, we amend § 80.917 of the rules to extend a pre-existing requirement for carriage of a reserve power supply to (a) small passenger vessels of less than 100 gross tons that carry more than 150 passengers or have overnight accommodations for more than forty-nine persons, and (b) small passenger vessels of less than 100 gross tons that operate on the high seas or more than three miles from shore on Great Lakes voyages. This extension of the reserve power supply requirement could affect small entities that own or operate small passenger vessels newly subject to the requirement.

17. In the IRFA accompanying the Second FNPRM, we specifically identified each of the above rule amendments as potentially affecting reporting, recordkeeping and other compliance requirements, and specifically requested comment on the economic impact of these changes.

Steps Taken To Minimize the Significant Economic Impact on Small Entities, and Significant Alternatives Considered

18. The RFA requires an agency to describe any significant alternatives that it has considered in developing its approach, which may include the following four alternatives (among others): “(1) The establishment of differing compliance or reporting requirements or timetables that take into account the resources available to small entities; (2) the clarification, consolidation, or simplification of compliance and reporting requirements under the rule for such small entities; (3) the use of performance rather than design standards; and (4) an exemption from coverage of the rule, or any part thereof, for such small entities.”

19. Although we received no comments specifically addressed to the IRFA for the Second FNPRM, we have considered all comments to the Second FNPRM addressing the impact of any proposed change on small entities and all suggestions for alternative measures that would have a less significant impact on small entities. Moreover, even where we received no comments of this nature with regard to a particular new requirement, we considered the potential impact of the requirement on small entities, and considered alternatives. As noted above, we have identified two new requirements that may affect reporting, recordkeeping and other compliance requirements for small entities. We discuss both of these new requirements adopted in the Third Report and Order, and relevant alternatives, below.

20. In determining to adopt more stringent requirements for DSC radio equipment, we carefully considered the impact of such action on small entities that manufacture or use such equipment. We ultimately concluded that we should not exempt any entities from compliance with the new DSC technical standards because indefinite reliance on equipment meeting the old standards could jeopardize the safety not only of passengers and crew on vessels using such equipment but also passengers and crew on other vessels. In addition to the undisputed safety benefits of DSC equipment meeting the new standards, we took into account record evidence indicating that the cost of such equipment is not excessive. Three commenters responded to the Commission's request for information on the compliance costs of this requirement, and their consensus view is that the retail cost of DSC equipment meeting the new standards is not more than $200, which is less than what DSC equipment meeting the earlier SC101 standard was retailing for just a few years ago. Moreover, we have provided affected entities with significant relief through a phase-in of the new requirements plus grandfathering protections. Specifically, the Commission will continue to accept applications for certification of non-handheld DSC equipment meeting the SC101 standard until one year after the effective date of these rule amendments. In addition, the Commission will continue to accept applications for certification of handheld DSC equipment meeting the SC101 standard for a full four years after the effective date of the new rules. With respect to grandfathering protection, we are permitting the continued manufacture, importation, sale and installation of non-handheld SC101 radio equipment until three years after the effective date of the new rules, and the continued manufacture, importation and sale of SC101 handheld units until seven years after the effective date. Finally, we are grandfathering indefinitely the use of any DSC equipment that was properly certified under the SC101 standard and placed in service prior to the expiration of the applicable three-year or seven-year grandfathering period; such equipment, therefore, may continue to be used until the end of its useful life. We conclude that these measures effectively mitigate the burden on small entities of complying with the new DSC standards, reasonably further the goals of the RFA, and allow a resolution of this matter that fairly balances the public interest in maritime safety with the public interest in reducing regulatory burdens on small entities.

21. We also carefully considered the impact on small entities of expanding the Section 80.917 requirement to carry a reserve power supply to additional classes of small passenger vessels. We have decided to expand this requirement because we believe that a reserve power supply “can make a life-or-death difference for passengers and crew on board a passenger vessel in distress.” We also have considered whether there are less costly alternatives to a reserve power supply that would be equally effective in addressing this safety concern. We conclude that no such less costly alternatives exist. However, in the interest of minimizing regulatory burdens on small entities, such as small charter boat operators, that own and operate small passenger vessels, we are not expanding the requirement to all small passenger vessels, although we did consider that option. Instead, we are expanding the reserve power supply requirement to those vessels where it will provide potentially the greatest value in terms of maritime safety—vessels with a relatively large passenger capacity and vessels that travel relatively great distances from shore—and where the costs can most readily be absorbed. Specifically we are extending the reserve power supply requirement to (a) small passenger vessels of less than 100 gross tons that carry more than 150 passengers or have overnight accommodations for more than forty-nine persons; and (b) small passenger vessels of less than 100 gross tons that carry not more than 150 passengers or have overnight accommodations for not more than forty-nine persons, and that are required to carry EPIRBs under the Coast Guard's Navigation and Vessel Inspection Circular No. 3-99, i.e., that operate on the high seas or more than three miles from shore on Great Lakes voyages. We believe that this rule adequately addresses the concerns of NMCA and PVA that a reserve power supply requirement not be imposed on the smallest of small passenger vessels, such as small charter fishing boats that remain relatively close to shore and generally carry only a few passengers at a time. In fact, this resolution was proposed by PVA. In addition, this approach appropriately takes into account a vessel's passenger capacity and area of operation in weighing the costs and benefits of imposing the reserve power supply requirement. We are persuaded by the Coast Guard's endorsement of this approach, moreover, that it gives appropriate weight to the interest in maritime safety at the same time that it furthers the goals of the RFA. Finally, to further mitigate the burden on the owners and operators of small passenger vessels newly subject to the reserve power supply requirement, we provide them with up to one year after the effective date of this rule amendment to install the requisite reserve power supply.

F. Report to Congress

22. The Commission will send a copy of the Memorandum Opinion and Order and Third Report and Order in WT Docket No. 00-48, including the Final Regulatory Flexibility Analysis, in a report to be sent to Congress and the Congressional Budget Office pursuant to the Congressional Review Act. In addition, the Commission will send a copy of the Memorandum Opinion and Order and Third Report and Order in WT Docket No. 00-48, including the Final Regulatory Flexibility Analysis, to the Chief Counsel for Advocacy of the SBA. A copy of the Memorandum Opinion and Order and Third Report and Order in WT Docket No. 00-48 and the Final Regulatory Flexibility Analysis (or summaries thereof) will also be published in the Federal Register.

List of Subjects in 47 CFR Parts 13 and 80

Communications equipment, Radio, Reporting and recordkeeping requirements, Incorporation by reference.

Federal Communications Commission.
Marlene H. Dortch,
Secretary.

Rule Changes

For the reasons discussed in the preamble, the Federal Communications Commission amends 47 CFR parts 13 and 80 as follows:

PART 13—COMMERCIAL RADIO OPERATORS

1. The authority citation for part 13 continues to read as follows:

Authority: Secs. 4, 303, 48 Stat. 1066, 1082 as amended; 47 U.S.C. 154, 303.

2. Amend § 13.7 by revising paragraph (b) introductory text and adding paragraph (b)(11) to read as follows:

§ 13.7 Classification of operator licenses and endorsements.

* * * * *

(b) There are eleven types of commercial radio operator licenses, certificates and permits (licenses). The license's ITU classification, if different from its name, is given in parentheses.

* * * * *

(11) GMDSS Radio Operator/Maintainer License (general operator's certificate/technical portion of the first-class radio electronic certificate).

* * * * *

3. Amend § 13.13 by revising paragraph (a) to read as follows:

§ 13.13 Application for a renewed or modified license.

(a) Each application to renew a First Class Radiotelegraph Operator's Certificate, Second Class Radiotelegraph Operator's Certificate, or Third Class Radiotelegraph Operator's Certificate must be made on FCC Form 605. The application must be accompanied by the appropriate fee and submitted in accordance with § 1.913 of this chapter.

* * * * *

4. Revise § 13.15 to read as follows:

§ 13.15 License term.

(a) First Class Radiotelegraph Operator's Certificates, Second Class Radiotelegraph Operator's Certificates, and Third Class Radiotelegraph Operator's Certificates are normally valid for a term of five years from the date of issuance.

(b) General Radiotelephone Operator Licenses, Restricted Radiotelephone Operator Permits, Restricted Radiotelephone Operator Permits-Limited Use, GMDSS Radio Operator's Licenses, Restricted GMDSS Radio Operator's Licenses, GMDSS Radio Maintainer's Licenses, GMDSS Operator/Maintainer Licenses, and Marine Radio Operator Permits are normally valid for the lifetime of the holder.

5. Amend § 13.203 by revising paragraph (a) to read as follows:

§ 13.203 Examination elements.

(a) A written examination (written Element) must prove that the examinee possesses the operational and technical qualifications to perform the duties required by a person holding that class of commercial radio operator license. For each Element, the Commission shall establish through public notices or other appropriate means the number of questions to be included in the question pool, the number of questions to be included in the examination, and the number of questions that must be answered correctly to pass the examination. Each written examination must consist of questions relating to the pertinent subject matter, as follows:

(1) Element 1 (formerly Elements 1 and 2): Basic radio law and operating practice with which every maritime radio operator should be familiar. Questions concerning provisions of laws, treaties, regulations, and operating procedures and practices generally followed or required in communicating by means of radiotelephone stations.

(2) Element 3: General radiotelephone. Questions concerning electronic fundamentals and techniques required to adjust, repair, and maintain radio transmitters and receivers at stations licensed by the FCC in the aviation, maritime, and international fixed public radio services.

(3) Element 5: Radiotelegraph operating practice. Questions concerning radio operating procedures and practices generally followed or required in communicating by means of radiotelegraph stations primarily other than in the maritime mobile services of public correspondence.

(4) Element 6: Advanced radiotelegraph. Questions concerning technical, legal and other matters applicable to the operation of all classes of radiotelegraph stations, including operating procedures and practices in the maritime mobile services of public correspondence, and associated matters such as radio navigational aids, message traffic routing and accounting, etc.

(5) Element 7: GMDSS radio operating practices. Questions concerning GMDSS radio operating procedures and practices sufficient to show detailed practical knowledge of the operation of all GMDSS sub-systems and equipment; ability to send and receive correctly by radiotelephone and narrow-band direct-printing telegraphy; detailed knowledge of the regulations applying to radio communications, knowledge of the documents relating to charges for radio communications and knowledge of those provisions of the International Convention for the Safety of Life at Sea which relate to radio; sufficient knowledge of English to be able to express oneself satisfactorily both orally and in writing; knowledge of and ability to perform each function listed in § 80.1081 of this chapter; and knowledge covering the requirements set forth in IMO Assembly Resolution on Training for Radio Personnel (GMDSS), Annex 3.

(6) Element 7R: Restricted GMDSS radio operating practices. Questions concerning those GMDSS radio operating procedures and practices that are applicable to ship stations on vessels that sail exclusively in sea area A1, as defined in § 80.1069 of this chapter, sufficient to show detailed practical knowledge of the operation of pertinent GMDSS sub-systems and equipment; ability to send and receive correctly by radio telephone and narrow-band direct-printing telegraphy; detailed knowledge of the regulations governing radio communications within sea area A1, knowledge of the pertinent documents relating to charges for radio communications and knowledge of the pertinent provisions of the International Convention for the Safety of Life at Sea; sufficient knowledge of English to be able to express oneself satisfactorily both orally and in writing; knowledge of and ability to perform each pertinent function listed in § 80.1081 of this chapter; and knowledge covering the pertinent requirements set forth in IMO Assembly Resolution on Training for Radio Personnel (GMDSS), Annex 3.

(7) Element 8: Ship radar techniques. Questions concerning specialized theory and practice applicable to the proper installation, servicing and maintenance of ship radar equipment in general use for marine navigational purposes.

(8) Element 9: GMDSS radio maintenance practices and procedures. Questions concerning the requirements set forth in IMO Assembly on Training for Radio Personnel (GMDSS), Annex 5 and IMO Assembly on Radio Maintenance Guidelines for the Global Maritime Distress and Safety System related to Sea Areas A3 and A4.

* * * * *

6. Revise § 13.215 to read as follows:

§ 13.215 Question pools.

The question pool for each written examination element will be composed of questions acceptable to the FCC. Each question pool must contain at least five (5) times the number of questions required for a single examination. The FCC will issue public announcements detailing the questions in the pool for each element. COLEMs must use only currently-authorized (through public notice or other appropriate means) question pools when preparing a question set for a written examination element.

PART 80—STATIONS IN THE MARITIME SERVICES

7. The authority citation for part 80 continues to read as follows:

Authority: Secs. 4, 303, 307(e), 309, and 332, 48 Stat. 1066, 1082, as amended; 47 U.S.C. 154, 303, 307(e), 309, and 332, unless otherwise noted. Interpret or apply 48 Stat. 1064-1068, 1081-1105, as amended; 47 U.S.C. 151-155, 301-609; 3 UST 3450, 3 UST 4726, 12 UST 2377.

8. Amend § 80.5 by revising the definition of Digital selective calling (DSC) to read as follows:

§ 80.5 Definitions.

* * * * *

Digital selective calling (DSC). A synchronous system developed by the International Telecommunication Union Radiocommunication (ITU-R) Sector, used to establish contact with a station or group of stations automatically by means of radio. The operational and technical characteristics of this system are contained in Recommendations ITU-R M.493-11, “Digital Selective-calling System for Use in the Maritime Mobile Service,” with Annexes 1 and 2, 2004, and ITU-R M.541-9, “Operational Procedures for the Use of Digital Selective-Calling Equipment in the Maritime Mobile Service,” with Annexes 1 through 5, 2004. (see subpart W of this part.) ITU-R Recommendations M.493-11 with Annexes 1 and 2 and M.541-9 with Annexes 1 through 5 are incorporated by reference. The Director of the Federal Register approves this incorporation by reference in accordance with 5 U.S.C. 552(a) and 1 CFR part 51. Copies of these standards can be inspected at the Federal Communications Commission, 445 12th Street, SW., Washington, DC (Reference Information Center) or at the National Archives and Records Administration (NARA). For information on the availability of this material at NARA, call 202-741-6030, or go to: http://www.archives.gov/federal_register/code_of_federal_regulations/ibr_locations.html. The ITU-R Recommendations can be purchased from the International Telecommunication Union (ITU), Place des Nations, CH-1211 Geneva 20, Switzerland.

* * * * *

9. Amend § 80.15 by removing paragraph (d)(4) and revising paragraph (e)(2) to read as follows:

§ 80.15 Eligibility for station license.

* * * * *

(e) * * *

(2) A 406.0-406.1 MHz EPIRB may be used by any ship required to carry an EPIRB pursuant to 46 CFR subpart 25.26 or 46 CFR 28.150, 117.64, 117.200, 133.60, 180.64, 180.200, 180.204, 180.205, or 199.510, or by any ship that is equipped with a VHF ship radio station. An INMARSAT-E EPIRB may be used by any ship required by these U.S. Coast Guard regulations to carry an EPIRB or by any ship that is equipped with a VHF radio station, provided that the ship is not operating in sea area A4 as defined in § 80.1069(a)(4).

Note to paragraph (e)(2): Service to INMARSAT-E EPIRB stations terminated on December 1, 2006, so distress signals from INMARSAT-E EPIRB stations will not be received by any Rescue Coordination Center.

10. Revise § 80.43 to read as follows:

§ 80.43 Equipment acceptable for licensing.

Transmitters listed in § 80.203 must be authorized for a particular use by the Commission based upon technical requirements contained in subparts E and F of this part, except for transmitters that are used on vessels in the Maritime Security Fleet and are deemed to satisfy all Commission equipment certification requirements pursuant to section 53108(c) of Title 46 of the United States Code.

11. Revise § 80.51 to read as follows:

§ 80.51 Ship earth station licensing.

A ship earth station must display the Commission license.

§ 80.57 [Amended]

12. Amend § 80.57 by removing paragraph (d)(5) and redesignating paragraph (d)(6) as (d)(5).

13. Amend § 80.103 by revising paragraphs (a), (c), and (e) to read as follows:

§ 80.103 Digital selective calling (DSC) operating procedures.

(a) Operating procedures for the use of DSC equipment in the maritime mobile service are as contained in ITU-R M.541-9, “Operational Procedures for the Use of Digital Selective-Calling Equipment in the Maritime Mobile Service,” with Annexes 1 through 5, 2004, and subpart W of this part.

* * * * *

(c) DSC acknowledgment of DSC distress and safety calls must be made by designated coast stations and such acknowledgment must be in accordance with procedures contained in ITU-R M.541-9, “Operational Procedures for the Use of Digital Selective-Calling Equipment in the Maritime Mobile Service,” with Annexes 1 through 5, 2004. Nondesignated public and private coast stations must follow the guidance provided for ship stations in ITU-R M.541-9, “Operational Procedures for the Use of Digital Selective-Calling Equipment in the Maritime Mobile Service,” with Annexes 1 through 5, 2004, with respect to DSC “Acknowledgment of distress calls” and “Distress relays.” (See subpart W of this part.)

* * * * *

(e) ITU-R M.541-9 with Annexes 1 through 5, 2004, is incorporated by reference. The Director of the Federal Register approves this incorporation by reference in accordance with 5 U.S.C. 552(a) and 1 CFR part 51. Copies of this standard can be inspected at the Federal Communications Commission, 445 12th Street, SW., Washington, DC (Reference Information Center) or at the National Archives and Records Administration (NARA). For information on the availability of this material at NARA, call 202-741-6030, or go to: http://www.archives.gov/federal_register/code_of_federal_regulations/ibr_locations.html. The ITU-R Recommendation can be purchased from the International Telecommunication Union (ITU), Place des Nations, CH-1211 Geneva 20, Switzerland.

14. Amend § 80.123 by revising paragraph (d) to read as follows:

§ 80.123 Service to stations on land.

* * * * *

(d) Radio equipment used on land must be certified for use under part 22, part 80, or part 90 of this chapter. Such equipment must operate only on the public correspondence channels authorized for use by the associated public coast station;

* * * * *

15. Amend § 80.148 by revising the introductory paragraph to read as follows:

§ 80.148 Watch on 156.8 MHz (Channel 16).

Each compulsory vessel, while underway, must maintain a watch for radiotelephone distress calls on 156.800 MHz whenever such station is not being used for exchanging communications. For GMDSS ships, 156.525 MHz is the calling frequency for distress, safety, and general communications using digital selective calling and the watch on 156.800 MHz is provided so that ships not fitted with DSC will be able to call GMDSS ships, thus providing a link between GMDSS and non-GMDSS compliant ships. The watch on 156.800 MHz is not required:

* * * * *

16. Amend § 80.179 by revising paragraph (e)(1) to read as follows:

§ 80.179 Unattended operation.

* * * * *

(e) * * *

(1) The equipment must be using DSC in accordance with ITU-R Recommendation M.493-11, “Digital Selective-calling System for Use in the Maritime Mobile Service,” with Annexes 1 and 2, 2004, and ITU-R Recommendation M.541-9, “Operational Procedures for the Use of Digital Selective-Calling Equipment in the Maritime Mobile Service,” with Annexes 1 through 5, 2004, as modified by this section. ITU-R Recommendations M.493-11 with Annexes 1 and 2 and M.541-9 with Annexes 1 through 5 are incorporated by reference. The Director of the Federal Register approves this incorporation by reference in accordance with 5 U.S.C. 552(a) and 1 CFR part 51. Copies of these standards can be inspected at the Federal Communications Commission, 445 12th Street, SW., Washington, DC (Reference Information Center) or at the National Archives and Records Administration (NARA). For information on the availability of this material at NARA, call 202-741-6030, or go to: http://www.archives.gov/federal_register/code_of_federal_regulations/ibr_locations.html. The ITU-R Recommendations can be purchased from the International Telecommunication Union (ITU), Place des Nations, CH-1211 Geneva 20, Switzerland.

* * * * *

17. Amend § 80.203 by revising paragraphs (b)(3), (h), and (n), redesignating paragraph (b)(4) as (b)(5), and adding new paragraph (b)(4) to read as follows:

§ 80.203 Authorization of transmitters for licensing.

* * * * *

(b) * * *

(3) Except as provided in paragraph (b)(4) of this section, programming of authorized channels must be performed only by a person holding a first or second class radiotelegraph operator's certificate or a general radiotelephone operator's license using any of the following procedures:

(i) Internal adjustment of the transmitter;

(ii) Use of controls normally inaccessible to the station operator;

(iii) Use of external devices or equipment modules made available only to service and maintenance personnel through a service company; and

(iv) Copying of a channel selection program directly from another transmitter (cloning) using devices and procedures made available only to service and maintenance personnel through a service company.

(4) Notwithstanding paragraph (b)(3) of this section, authorized channels may be programmed via computerized remote control by any person, provided that the remote control operation is designed to preclude the programming of channels not authorized to the licensee.

* * * * *

(h) In addition to the certification requirements contained in part 2 of this chapter, applicants for certification of 406.0-406.1 MHz radiobeacons must also comply with the certification procedures contained in § 80.1061 of this part.

* * * * *

(n) Applications for certification of all marine radio transmitters operating in the 2-27.5 MHz band or the 156-162 MHz band received on or after June 17, 1999, must have a DSC capability in accordance with § 80.225. This requirement does not apply to transmitters used with AMTS or hand-held portable transmitters.

* * * * *

18. Amend § 80.207 by revising paragraph (d) to read as follows:

§ 80.207 Classes of emission.

* * * * *

(d) The authorized classes of emission are as follows:

Types of stations | Classes of emission
Ship Stations ¹
Radiotelegraphy:
100-160 kHz | A1A.
405-525 kHz | A1A, J2A.
1615-27500 kHz:
Manual ¹⁵, ¹⁶, ¹⁷ | A1A, J2A, J2B, J2D.
DSC ⁶ | F1B, J2B.
NB-DP ¹⁴, ¹⁶ | F1B, J2B, J2D.
Facsimile | F1C, F3C, J2C, J3C.
156-162 MHz ² | F1B, F2B, F2C, F3C, F1D, F2D.
DSC | G2B.
216-220 MHz ³ | F1B, F2B, F2C, F3C.
1626.5-1646.5 MHz | (⁴).
Radiotelephony:
1615-27500 kHz ¹⁶ | H3E, J2D, J3E, R3E.
27.5-470 MHz ⁶ | G3D, G3E.
1626.5-1646.5 MHz | (⁴).
Radiodetermination:
285-325 kHz ⁷ | A1A, A2A.
405-525 kHz (Direction Finding) ⁸ | A3N, H3N, J3N, NON.
154-459 MHz: ¹² | A1D, A2D, F1D, F2D, G1D, G2D.
2.4-9.5 GHz | PON.
Land Stations ¹
Radiotelegraphy:
100-160 kHz | A1A.
405-525 kHz | A1A, J2A.
1605-2850 kHz:
Manual | A1A, J2A.
Facsimile | F1C, F3C, J2C, J3C.
Alaska-Fixed | A1A, J2A.
4000-27500 kHz:
Manual ¹⁶ | A1A, J2A, J2B, J2D.
DSC ¹⁸ | F1B, J2B.
NB-DP ¹⁴, ¹⁸ | F1,B J2B, J2D.
Facsimile | F1C, F3C, J2C, J3C.
Alaska-Fixed ¹⁷, ¹⁸ | A1A, A2A, F1B, F2B, J2B, J2D.
72-76 MHz | A1A, A2A, F1B, F2B.
156-162 MHz ², ²⁰ | F1B, F2B, F2C, F3C, F1D, F2D.
DSC | G2B.
216-220 MHz ³ | F1B, F2B, F2C, F3C.
Radiotelephony:
1615-27500 kHz ¹⁸, ¹⁹ | H3E, J3E, R3E.
72-76 MHz | A3E, F3E, G3E.
156-470 MHz | G3E.
Radiodetermination:
2.4-9.6 GHz | PON.
Distress, Urgency and Safety ⁸, ⁹
2182 kHz ¹⁰, ¹¹ | A2B, A3B, H2B, H3E, J2B, J3E.
121.500 MHz | A3E, AEX, N0N.
123.100 MHz | A3E.
156.750 and 156.800 MHz ¹³ | G3E, G3N.
243.000 MHz | A3E, A3X, N0N.
406.0-406.1 MHz | G1D.
¹ Excludes distress, EPIRBs, survival craft, and automatic link establishment.
² Frequencies used for public correspondence and in Alaska 156.425 MHz. See §§ 80.371(c), 80.373(f) and 80.385(b). Transmitters approved before January 1, 1994, for G3E emissions will be authorized indefinitely for F2C, F3C, F1D and F2D emissions. Transmitters approved on or after January 1, 1994, will be authorized for F2C, F3C, F1D or F2D emissions only if they are approved specifically for each emission designator.
³ Frequencies used in the Automated Maritime Telecommunications System (AMTS). See § 80.385(b).
⁴ Types of emission are determined by the INMARSAT Organization.
⁵ [Reserved].
⁶ G3D emission must be used only by one-board stations for maneuvering or navigation.
⁷ Frequencies used for cable repair operations. See § 80.375(b).
⁸ For direction finding requirements see § 80.375.
⁹ Includes distress emissions used by ship, coast, EPIRBs and survival craft stations.
¹⁰ On 2182 kHz A1B, A2B, H2B and J2B emissions indicate transmission of the auto alarm signals.
¹¹ Ships on domestic voyages must use J3E emission only.
¹² For frequencies 154.585 MHz, 159.480 MHz, 160.725 MHz, 160.785 MHz, 454.000 MHz and 459.000 MHz, authorized for offshore radiolocation and related telecommand operations.
¹³ Class C EPIRB stations may not be used after February 1, 1999.
¹⁴ NB-DP operations which are not in accordance with ITU-R Recommendations M.625 or M.476 are permitted to utilize any modulation, so long as emissions are within the limits set forth in § 80.211(f).
¹⁵ J2B is permitted only on 2000-27500 kHz.
¹⁶ J2D is permitted only on 2000-27500 kHz, and ship stations employing J2D emissions shall at no time use a peak envelope power in excess of 1.5 kW per channel.
¹⁷ J2B and J2D are permitted provided they do not cause harmful interference to A1A.
¹⁸ Coast stations employing J2D emissions shall at no time use a peak envelope power in excess of 10 kW per channel.
¹⁹ J2D is permitted only on 2000-27500 kHz.
²⁰ If a station uses another type of digital emission, it must comply with the emission mask requirements of § 90.210 of this chapter, except that Automatic Identification System (AIS) transmissions do not have to comply with the emission mask requirements of § 90.210 of this chapter.

19. Amend § 80.211 by revising paragraph (e) introductory text to read as follows:

§ 80.211 Emission limitations.

* * * * *

(e) The mean power of EPIRBs operating on 121.500 MHz, 243.000 MHz and 406.0-406.1 MHz must be as follows:

* * * * *

20. Amend § 80.223 by revising paragraph (a)(1) to read as follows:

§ 80.223 Special requirements for survival craft stations.

(a) * * *

(1) 2182 kHz must be able to operate with A3E or H3E and J2B and J3E emissions;

* * * * *

21. Amend § 80.225 by revising the introductory paragraph, and paragraphs (a) and (c)(2) to read as follows:

§ 80.225 Requirements for selective calling equipment.

This section specifies the requirements for voluntary digital selective calling (DSC) equipment and selective calling equipment installed in ship and coast stations, and incorporates by reference ITU-R Recommendation M.476-5, “Direct-Printing Telegraph Equipment in the Maritime Mobile Service,” with Annex, 1995; ITU-R Recommendation M.493-11, “Digital Selective-calling System for Use in the Maritime Mobile Service,” with Annexes 1 and 2, 2004; ITU-R Recommendation M.541-9, “Operational Procedures for the Use of Digital Selective-Calling Equipment in the Maritime Mobile Service,” with Annexes 1 through 5, 2004; ITU-R Recommendation M.625-3, “Direct-Printing Telegraph Equipment Employing Automatic Identification in the Maritime Mobile Service,” with Annex, 1995; RTCM Paper 56-95/SC101-STD, “RTCM Recommended Minimum Standards for Digital Selective Calling (DSC) Equipment Providing Minimum Distress and Safety Capability,” Version 1.0, August 10, 1995; and IEC 62238, First edition, “Maritime navigation and radiocommunication equipment and systems—VHF radiotelephone equipment incorporating Class ‘D' Digital Selective Calling (DSC)—Methods of testing and required test results,” March 2003. ITU-R Recommendations M.476-5 with Annex, M.493-11 with Annexes 1 and 2, M.541-9 with Annexes 1 through 5, and M.625-3 with Annex, RTCM Paper 56-95/SC101-STD Version 1.0, and IEC 62238, First edition, are incorporated by reference. The Director of the Federal Register approves this incorporation by reference in accordance with 5 U.S.C. 552(a) and 1 CFR part 51. Copies of these standards can be inspected at the Federal Communications Commission, 445 12th Street, SW., Washington, DC (Reference Information Center) or at the National Archives and Records Administration (NARA). For information on the availability of this material at NARA, call 202-741-6030, or go to: http://www.archives.gov/federal_register/code_of_federal_regulations/ibr_locations.html. The ITU-R Recommendations can be purchased from the International Telecommunication Union (ITU), Place des Nations, CH-1211 Geneva 20, Switzerland. The RTCM standards can be purchased from the Radio Technical Commission for Maritime Services (RTCM), 1800 N. Kent Street, Suite 1060, Arlington, Virginia 22209, http://www.rtcm.org, e-mail pubs@rtcm.org.

(a) The requirements for DSC equipment voluntarily installed in coast or ships stations are as follows:

(1) Prior to March 25, 2009, DSC equipment must meet the requirements of the following standards in order to be approved for use:

(i) RTCM Paper 56-95/SC101-STD, RTCM Recommended Minimum Standards for Digital Selective Calling (DSC) Equipment Providing Minimum Distress and Safety Capability,” Version 1.0, August 10, 1995, and ITU-R Recommendation M.493-10, “Digital Selective-calling System for Use in the Maritime Mobile Service,” with Annexes 1 and 2, 2000 (including only equipment classes A, B, D, and E); or

(ii) ITU-R Recommendation M.493-11, “Digital Selective-calling System for Use in the Maritime Mobile Service,” with Annexes 1 and 2, 2004, and, in the case of Class D DSC equipment only, IEC 62238, First edition, “Maritime navigation and radiocommunication equipment and systems—VHF radiotelephone equipment incorporating Class ‘D' Digital Selective Calling (DSC)—Methods of testing and required test results,” March 2003.

(2) Beginning March 25, 2009, the Commission will not accept new applications (but will continue to process then-pending applications) for certification of non-portable DSC equipment that does not meet the requirements of ITU-R Recommendation M.493-11, “Digital Selective-calling System for Use in the Maritime Mobile Service,” with Annexes 1 and 2, 2004, and, in the case of Class D DSC equipment only, IEC 62238, First edition, “Maritime navigation and radiocommunication equipment and systems—VHF radiotelephone equipment incorporating Class ‘D' Digital Selective Calling (DSC)—Methods of testing and required test results,” March 2003.

(3) Beginning March 25, 2012, the Commission will not accept new applications (but will continue to process then-pending applications) for certification of handheld, portable DSC equipment that does not meet the requirements of ITU-R Recommendation M.493-11, “Digital Selective-calling System for Use in the Maritime Mobile Service,” with Annexes 1 and 2, 2004, and, in the case of Class D DSC equipment only, IEC 62238, First edition, “Maritime navigation and radiocommunication equipment and systems—VHF radiotelephone equipment incorporating Class ‘D' Digital Selective Calling (DSC)—Methods of testing and required test results,” March 2003.

(4) The manufacture, importation, sale or installation of non-portable DSC equipment that does not comply with either of the standards referenced in paragraph (a)(2) of this section is prohibited beginning March 25, 2011.

(5) The manufacture, importation, or sale of handheld, portable DSC equipment that does not comply with either of the standards referenced in paragraph (a)(3) of this section is prohibited beginning March 25, 2015.

(6) Approved DSC equipment that has been manufactured, sold, and installed in conformity with the requirements of this section may be used indefinitely.

* * * * *

(c) * * *

(2) Equipment used to perform a selective calling function during narrow-band direct-printing (NB-DP) operations in accordance with ITU-R Recommendation M.476-5, “Direct-Printing Telegraph Equipment in the Maritime Mobile Service,” with Annex, 1995, or ITU-R Recommendation M.625-3, “Direct-Printing Telegraph Equipment Employing Automatic Identification in the Maritime Mobile Service,” with Annex, 1995, ITU-R Recommendation M.493-11, “Digital Selective-calling System for Use in the Maritime Mobile Service,” with Annexes 1 and 2, 2004, and

* * * * *

22. Amend § 80.251 by revising paragraph (a) to read as follows:

§ 80.251 Scope.

(a) This subpart gives the general technical requirements for certification of equipment used on compulsory ships. Such equipment includes automatic-alarm-signal keying devices, survival craft radio equipment, watch receivers, radar equipment and Ship Security Alert System (SSAS) equipment.

* * * * *

§ 80.268 [Amended]

23. Amend § 80.268 by removing paragraph (b)(2) and redesignating paragraph (b)(3) as (b)(2).

§ 80.269 [Removed]

24. Section 80.269 is removed.

25. Amend § 80.271 by revising paragraph (e) to read as follows:

§ 80.271 Technical requirements for portable survival craft radiotelephone transceivers.

* * * * *

(e) Portable radiotelephone transceivers which are certified to meet the requirements of this section must be identified by an appropriate note in the Commission's database.

26. Revise § 80.273 to read as follows:

§ 80.273 Technical requirements for radar equipment.

(a) Radar installations on board ships that are required by the Safety Convention or the U.S. Coast Guard to be equipped with radar must comply with the documents referenced in the following paragraphs of this section. These documents contain specifications, standards and general requirements applicable to shipboard radar equipment and shipboard radar installations. For purposes of this part the specifications, standards and general requirements stated in these documents are mandatory irrespective of discretionary language. The standards listed in this section are incorporated by reference. The Director of the Federal Register approves this incorporation by reference in accordance with 5 U.S.C. 552(a) and 1 CFR part 51. Copies of these standards can be inspected at the Federal Communications Commission, 445 12th Street, SW., Washington, DC (Reference Information Center) or at the National Archives and Records Administration (NARA). For information on the availability of this material at NARA, call 202-741-6030, or go to http://www.archives.gov/federal_register/code_of_federal_regulations/ibr_locations.html. The IMO standards can be purchased from International Maritime Organization (IMO), Publications, International Maritime Organization, 4 Albert Embankment, London SE1 7SR, United Kingdom; telephone 011 44 71 735 7611. IEC publications can be purchased from the International Electrotechnical Commission, 3 Rue de Varembe, CH-1211 Geneva 20, Switzerland, or from the American National Standards Institute (ANSI) through its NSSN operation (www.nssn.org), at Customer Service, American National Standards Institute, 25 West 43rd Street, New York, NY 10036, telephone (212) 642-4900. ITU documents can be purchased from the International Telecommunication Union (ITU), Place des Nations, CH-1211 Geneva 20, Switzerland (www.itu.int.)

(b) Radar installed on or after March 25, 2008 on ships of 300 tons gross tonnage and upwards, and radar installed on a ship after March 25, 2008, and certificated by the U.S. Coast Guard under the IMO Code for the Safety of High Speed Craft (Resolution MSC.36(63), May 20, 1994, with Supplement (2002) must comply with:

(1) IMO Resolution MSC.64(67), “Adoption of New and Amended Performance Standards,” Annex 4, “Recommendation on performance standards for radar equipment,” adopted on 4 December 1996;

(2) The emission limits contained in ITU Radio Regulations, Appendices Edition of 2004, Appendix 3 (Rev. WRC-03), “Tables of maximum permitted power levels for spurious or spurious domain emissions,” Section II—“Spurious domain emission limits for transmitters installed after 1 January 2003 and for all transmitters after 1 January 2012,” including Annex 1; and

(3) ITU-R M.1177-3, “Techniques for measurement of unwanted emissions of radar systems,” including Annexes 1 and 2 and all appendices, 2003.

(c) For any ship of 10,000 tons gross tonnage and upwards or that is otherwise required to be equipped with two radar systems, each of the two radar systems must be capable of operating independently and must comply with the specifications, standards and general requirements set forth on paragraph (b) of this section. One of the systems must provide a display with an effective diameter of not less than 340 millimeters (13.4 inches), (16-inch cathode ray tube). The other system must provide a display with an effective diameter of not less than 250 millimeters (9.8 inches), (12-inch cathode ray tube).

(d) Radar installed before March 25, 2008 must meet and be maintained to comply with the Commission's regulations in effect for the equipment on the date of its installation.

27. Add § 80.277 to read as follows:

§ 80.277 Ship Security Alert System (SSAS).

(a) Vessels equipped with a Ship Security Alert System pursuant to the Safety Convention or 33 CFR 101.310 may utilize:

(1) Equipment that complies with RTCM Paper 110-2004/SC110-STD, “RTCM Standard 11020.0—Ship Security Alert Systems (SSAS) using the Cospas-Sarsat System,” Version 1.0, June 4, 2004; or

(2) INMARSAT D+ equipment; or

(3) Equipment that complies with the technical specifications found in this subpart.

(b) RTCM Paper 110-2004/SC110-STD is incorporated by reference. The Director of the Federal Register approves this incorporation by reference in accordance with 5 U.S.C. 552(a) and 1 CFR part 51. Copies of these standards can be inspected at the Federal Communications Commission, 445 12th Street, SW., Washington, DC (Reference Information Center) or at the National Archives and Records Administration (NARA). For information on the availability of this material at NARA, call 202-741-6030, or go to: http://www.archives.gov/federal_register/code_of_federal_regulations/ibr_locations.html. The RTCM standards can be purchased from the Radio Technical Commission for Maritime Services (RTCM), 1800 N. Kent St., Suite 1060, Arlington VA 22209, http://www.rtcm.org, e-mail at pubs@rtcm.org.

28. Amend § 80.305 by revising paragraphs (a)(1), (a)(2), (b)(1), and (c) to read as follows:

§ 80.305 Watch requirements of the Communications Act and the Safety Convention.

(a) * * *

(1) If it is not carrying MF-DSC radio equipment, keep a continuous and efficient watch on the radiotelephone distress frequency 2182 kHz from the principal radio operating position or the room from which the vessel is normally steered while being navigated in the open sea outside a harbor or port.

(2) Keep a continuous and efficient watch on the VHF distress frequency 156.800 MHz from the room from which the vessel is normally steered while in the open sea outside a harbor or port. The watch must be maintained by a designated member of the crew who may perform other duties, relating to the operation or navigation of the vessel, provided such other duties do not interfere with the effectiveness of the watch. Use of a properly adjusted squelch or brief interruptions due to other nearby VHF transmissions are not considered to adversely affect the continuity or efficiency of the required watch on the VHF distress frequency. This watch need not be maintained by vessels subject to the Bridge-to-Bridge Act and participating in a Vessel Traffic Services (VTS) system as required or recommended by the U.S. Coast Guard, when an efficient listening watch is maintained on both the bridge-to-bridge frequency and a separate assigned VTS frequency.

(b) * * *

(1) If it is not carrying MF-DSC radio equipment, keep a continuous watch on 2182 kHz in the room from which the vessel is normally steered while at sea, whenever such station is not being used for authorized traffic. Such watch must be maintained by at least one officer or crewmember who may perform other duties relating to the operation or navigation of the vessel, provided such other duties do not interfere with the watch. A radiotelephone watch receiver having a loudspeaker and a radiotelephone auto alarm must be used to keep the continuous watch on 2182 kHz. After a determination by the master that maintenance of the watch would interfere with the safe navigation of the ship, the watch may be maintained by use of the radiotelephone auto alarm facility alone.

* * * * *

(c) Each vessel of the United States transporting more than six passengers for hire, which is equipped with a radiotelephone station for compliance with 47 U.S.C. 381-386 but which is not carrying MF-DSC radio equipment, must, while being navigated in the open sea or any tidewater within the jurisdiction of the United States adjacent or contiguous to the open sea, keep a continuous watch on 2182 kHz while the vessel is beyond VHF communication range of the nearest VHF coast station, whenever the radiotelephone station is not being used for authorized traffic. A VHF watch must be kept on 156.800 MHz whenever such station is not being used for authorized traffic. The VHF watch must be maintained at the vessel's steering station actually in use by the qualified operator as defined by § 80.157 or by a crewmember who may perform other duties relating to the operation or navigation of the vessel, provided such other duties do not interfere with the watch. The use of a properly adjusted squelch is not considered to adversely affect the watch. The VHF watch need not be maintained by vessels subject to the Bridge-to-Bridge Act and participating in a Vessel Traffic Services (VTS) system when an efficient listening watch is maintained on both the bridge-to-bridge frequency and a VTS frequency.

29. Revise § 80.310 to read as follows:

§ 80.310 Watch required by voluntary vessels.

Voluntary vessels not equipped with DSC must maintain a watch on 2182 kHz and on 156.800 MHz (Channel 16) whenever the vessel is underway and the radio is not being used to communicate. Noncommercial vessels, such as recreational boats, may alternatively maintain a watch on 156.450 MHz (Channel 9) in lieu of VHF Channel 16 for call and reply purposes. Voluntary vessels equipped with VHF-DSC equipment must maintain a watch on 2182 kHz and on either 156.525 MHz (Channel 70) or VHF Channel 16 aurally whenever the vessel is underway and the radio is not being used to communicate. Voluntary vessels equipped with MF-HF DSC equipment must have the radio turned on and set to an appropriate DSC distress calling channel or one of the radiotelephone distress channels whenever the vessel is underway and the radio is not being used to communicate. Voluntary vessels equipped with Inmarsat A, B, C, M or Fleet F77 systems must have the unit turned on and set to receive calls whenever the vessel is underway and the radio is not being used to communicate.

§ 80.313 [Amended]

30. In § 80.313 amend the Frequency band column in the table by removing the entry “1605-3500 kHz” and adding in its place “1615-3500 kHz.”

31. Amend § 80.314 is revising the section heading and by adding paragraph (c) and (d) to read as follows:

§ 80.314 Distress communications.

* * * * *

(c) The radiotelephone distress call consists of:

(1) The distress signal MAYDAY spoken three times;

(2) The words THIS IS;

(3) The call sign (or name, if no call sign assigned) of the mobile station in distress, spoken three times;

(4) Particulars of the station's position;

(5) The nature of the distress;

(6) The kind of assistance desired; and

(7) Any other information which might facilitate rescue, for example, the length, color, and type of vessel, or number of persons on board.

(d) The procedures for canceling false distress alerts are contained in § 80.335.

§ 80.315 [Removed]

32. Section 80.315 is removed.

§ 80.316 [Removed]

33. Section 80.316 is removed.

34. Amend § 80.327 by revising the section heading, and by adding paragraphs (e), (f), and (g) to read as follows:

§ 80.327 Urgency signals and messages.

* * * * *

(e) The urgency signal and call, and the message following it, must be sent on one of the international distress frequencies. Stations which cannot transmit on a distress frequency may use any other available frequency on which attention might be attracted.

(f) Mobile stations which hear the urgency signal must continue to listen for at least three minutes. At the end of this period, if no urgency message has been heard, they may resume their normal service. However, land and mobile stations which are in communication on frequencies other than those used for the transmission of the urgency signal and of the call which follows it may continue their normal work without interruption provided the urgency message is not addressed “to all stations”.

(g) When the urgency signal has been sent before transmitting a message “to all stations” which calls for action by the stations receiving the message, the station responsible for its transmission must cancel it as soon as it knows that action is no longer necessary. This message of cancellation must likewise be addressed “to all stations”.

§ 80.328 [Removed]

35. Section 80.328 is removed.

36. Amend § 80.329 by revising the section heading, and by adding paragraphs (e), (f), and (g) to read as follows:

§ 80.329 Safety signals and messages.

* * * * *

(e) The safety signal and call must be followed by the safety message. Where practicable, the safety message should be sent on a working frequency, and a suitable announcement to this effect must be made at the end of the call.

(f) Messages about meteorological warnings, of cyclones, dangerous ice, dangerous wrecks, or any other imminent danger to marine navigation must be preceded by the safety signal.

(g) Stations hearing the safety signal must not make any transmission likely to interfere with the message.

§ 80.330 [Removed]

37. Section 80.330 is removed.

38. Amend § 80.335 by revising paragraphs (a)(2), (b)(2), and (c)(2) to read as follows:

§ 80.335 Procedures for canceling false distress alerts.

(a) * * *

(2) Immediately cancel the distress alert orally over the telephony distress traffic channel associated with each DSC channel on which the distress alert was transmitted;

* * * * *

(b) * * *

(2) Immediately cancel the distress alert orally over the telephony distress traffic channel associated with each DSC channel on which the distress alert was transmitted; and

* * * * *

(c) * * *

(2) Immediately cancel the distress alert orally over the telephony distress traffic channel associated with each DSC channel on which the distress alert was transmitted;

* * * * *

39. Amend § 80.359 by revising paragraph (b) to read as follows:

§ 80.359 Frequencies for digital selective calling (DSC).

* * * * *

(b) Distress and safety calling. The frequencies 2187.5 kHz, 4207.5 kHz, 6312.0 kHz, 8414.5 kHz, 12577.0 kHz, 16804.5 kHz and 156.525 MHz may be used for DSC by coast and ship stations on a simplex basis for distress and safety purposes, and may also be used for routine ship-to-ship communications provided that priority is accorded to distress and safety communications. The provisions and procedures for distress and safety calling are contained in ITU-R Recommendation M.541-9, “Operational Procedures for the Use of Digital Selective-Calling Equipment in the Maritime Mobile Service,” with Annexes 1 through 5, 2004, and § 80.103(c). ITU-R Recommendation M.541-9 with Annexes is incorporated by reference. The Director of the Federal Register approves this incorporation by reference in accordance with 5 U.S.C. 552(a) and 1 CFR part 51. Copies of this standard can be inspected at the Federal Communications Commission, 445 12th Street, SW., Washington, DC (Reference Information Center) or at the National Archives and Records Administration (NARA). For information on the availability of this material at NARA, call 202-741-6030, or go to: http://www.archives.gov/federal_register/code_of_federal_regulations/ibr_locations.html. The ITU-R Recommendation can be purchased from the International Telecommunication Union (ITU), Place des Nations, CH-1211 Geneva 20, Switzerland.

* * * * *

40. Amend § 80.371 by revising the reference to “West Coat” in the Region column of the table in paragraph (a) to read “West Coast,” and by adding footnote 2 to the entry for 16537 kHz of the table in paragraph (b)(2), and revise paragraph (c) introductory text to read as follows:

§ 80.371 Public correspondence frequencies.

* * * * *

(b) * * *

(2) * * *

Public Correspondence Simplex

[Non-paired radiotelephony frequencies in the 4000-27500 kHz Band ¹ Carrier Frequencies (kHz)]

16537 ² | 18825 | 22174 | 25100
* * * * *
² The alternative carrier frequency 16537 kHz may be used by ship stations and coast stations for calling on a simplex basis, provided that the peak envelope power does not exceed 1 kW.

(c) Working frequencies in the marine VHF 156-162 MHz band. (1)(i) The frequency pairs listed in the table in this paragraph are available for assignment to public coast stations for public correspondence communications with ship stations and units on land.

* * * * *

41. Amend § 80.373 by revising paragraph (a)(1), adding footnote 6 to the entry for 12359 kHz of the table in paragraph (c)(1), redesignating paragraph (g) as (g)(1), revising newly designated paragraph (g)(1), and adding paragraph (g)(2) to read as follows:

§ 80.373 Private communications frequencies.

* * * * *

(a) * * *

(1) Private coast stations must use J3E emission.

* * * * *

(c) * * *

Business and Operational Frequencies in the 2000-27500 kHz Band; Carrier Frequencies (kHz)

* * * * * * *
2096.5 /1/ | 4125 | 6230 |  | 12359 | 16534 | 22165
|  |  |  | (⁶) |  |
* * * * * * *
* * * * * * *
⁶ The alternative carrier frequency 12359 kHz may be used by ship stations and coast stations for calling on a simplex basis, provided that the peak envelope power does not exceed 1 kW.

* * * * *

(g)(1) On-board communications: This section describes the carrier frequency pairs assignable for on-board mobile radiotelephony communications. The center of the on-board repeater antenna must not be located more than 3 meters (10 feet) above the ship's working deck. These frequencies are available on a shared basis with stations in the Industrial/Business Radio Pool.

* * *

(2) Where needed, equipment designed for 12.5 kHz channel spacing using the additional frequencies 457.5375 MHz, 457.5625 MHz, 467.5375 MHz, and 467.5625 MHz may be introduced for on-board communications.

* * * * *

§ 80.385 [Amended]

42. Amend § 80.385 by removing paragraph (d).

43. Amend § 80.409 by revising paragraphs (a)(1), (a)(2), (d)(2), and (e)(1), removing paragraph (e)(5)(ii), redesignating paragraphs (e)(5)(iii) and (e)(5)(iv) as (e)(5)(ii) and (e)(5)(iii), redesignating paragraphs (e)(6) through (e)(12) as (e)(7) through (e)(13), and adding a new paragraph (e)(6) to read as follows:

§ 80.409 Station logs.

(a) * * *

(1) The log must be kept in an orderly manner. The log may be kept electronically or in writing. The required information for the particular class or category of station must be readily available. Key letters or abbreviations may be used if their proper meaning or explanation is contained elsewhere in the same log.

(2) Erasures, obliterations, or willful destruction of written logs, or deletions of data or willful destruction of computer files or computer hardware containing electronic logs, is prohibited during the retention period. Corrections may be made only by the person originating the entry by striking out the error, initialing the correction and indicating the date of correction. With respect to electronic logs, striking out the error is to be accomplished using a strike-through formatting effect or a similar software function, and the correction is to be acknowledged through a dated electronic signature at the location of the strike-through.

* * * * *

(d) * * *

(2) “ON WATCH” must be entered by the operator beginning a watch, followed by the operator's signature for stations maintaining written logs. “OFF WATCH” must be entered by the operator being relieved or terminating a watch, followed by the operator's signature for stations maintaining written logs. All log entries must be completed by the end of each watch.

* * * * *

(e) * * *

(1) A summary of all distress and urgency communications affecting the station's own ship, all distress alerts relayed by the station's own ship, and all distress call acknowledgements and other communications received from search and rescue authorities.

* * * * *

(6) An entry at least once every thirty days that the batteries or other reserve power sources have been checked and are functioning properly.

* * * * *

44. The heading of subpart R is revised to read as follows:

Subpart R—Technical Equipment Requirements for Cargo Vessels Not Subject to Subpart W

* * * * *

§ 80.858 [Amended]

45. Amend § 80.858 by removing paragraph (b) and redesignating paragraphs (c), (d), and (e) as (b), (c), and (d).

46. Amend § 80.871 by revising the entries for Channels 75 and 76 in the table in paragraph (d) to read as follows:

* * * * *

§ 80.871 VHF radiotelephone station.

(d) * * *

Channel designators | Transmitting frequencies (MHz): Ship station | Transmitting frequencies (MHz): Coast station
* * * * * * *
75 | 156.775 | 156.775
* * * * * * *
76 | 156.825 | 156.825

* * * * *

47. Add § 80.882 to read as follows:

§ 80.882 2182 kHz watch.

Ships subject to this subpart must maintain a watch on the frequency 2182 kHz pursuant to § 80.305.

48. Amend § 80.905 by revising paragraphs (a)(1), (a)(2), (a)(3)(i), (a)(3)(iii)(A), (a)(3)(iii)(B), (a)(4)(i), (a)(4)(iii)(A), (a)(4)(iii)(B), and (a)(4)(vi) to read as follows:

§ 80.905 Vessel radio equipment.

(a) * * *

(1) Vessels operated solely within 20 nautical miles of land must be equipped with a VHF-DSC radiotelephone installation meeting the requirements of § 80.1101(c)(2), except that a VHF radiotelephone installation without DSC capability is permitted until one year after the Coast Guard notifies the Commission that shore-based sea area A1 coverage is established. Vessels in this category must not operate more than 20 nautical miles from land.

(2) Vessels operated beyond the 20 nautical mile limitation specified in paragraph (a)(1) of this section, but not more than 100 nautical miles from the nearest land, must be equipped with a MF-DSC frequency transmitter meeting the requirements of § 80.1101(c)(3) and capable of transmitting J3E emission and a receiver capable of reception of J3E emission within the band 1710 to 2850 kHz, in addition to the VHF-DSC radiotelephone installation required by paragraph (a)(1) of this section, except that a MF radiotelephone installation without DSC capability is permitted until one year after the Coast Guard notifies the Commission that shore-based sea area A2 coverage is established. The MF or MF-DSC transmitter and receiver must be capable of operation on 2670 kHz.

(3) * * *

(i) Be equipped with a VHF-DSC radiotelephone installation meeting the requirements of paragraph (a)(1) of this section, except that a VHF radiotelephone installation without DSC capability is permitted until one year after the Coast Guard notifies the Commission that shore-based sea area A1 coverage is established;

* * * * *

(iii) * * *

(A) A DSC-capable single sideband radiotelephone meeting the requirements of § 80.1101(c)(4) and capable of operating on all distress and safety frequencies in the medium frequency and high frequency bands listed in § 80.369(a) and (b), on all of the ship-to-shore calling frequencies in the high frequency bands listed in § 80.369(d), and on at least four of the automated mutual-assistance vessel rescue (AMVER) system HF duplex channels (this requirement may be met by the addition of such frequencies to the radiotelephone installation required by paragraph (a)(2) of this section); or

(B) If operated in an area within the coverage of an INMARSAT maritime mobile geostationary satellite in which continuous alerting is available, an INMARSAT B, C, M, or Fleet F77 ship earth station, or an INMARSAT A ship earth station if installed prior to February 12, 2004.

* * * * *

(4) * * *

(i) Be equipped with two VHF-DSC radiotelephone installations meeting the requirements of paragraph (a)(1) of this section, except that VHF radiotelephone installations without DSC capability are permitted until one year after the Coast Guard notifies the Commission that shore-based sea area A1 coverage is established;

* * * * *

(iii) * * *

(A) A DSC-capable independent single sideband radiotelephone meeting the requirements of paragraph (a)(3)(iii)(A) of this section and that is capable of operating on all distress and safety frequencies in the medium frequency and high frequency bands listed in § 80.369(a) and (b), on all of the ship-to-shore calling frequencies in the high frequency bands listed in § 80.369(d), and on at least four of the automated mutual-assistance vessel rescue (AMVER) system HF duplex channels; or

(B) If operated in an area within the coverage of an INMARSAT maritime mobile geostationary satellite in which continuous alerting is available, an INMARSAT B, C, M, or Fleet F77 ship earth station, or an INMARSAT A ship earth station if installed prior to February 12, 2004.

* * * * *

(vi) Be equipped with a Category I 406-406.1 MHz satellite emergency position-indicating radiobeacon (EPIRB) meeting the requirements of § 80.1061 or, if the ship is not operating in sea area A4, as defined in § 80.1069(a)(4), an automatic float-free INMARSAT-E EPIRB meeting the requirements of § 80.1063.

Note to paragraph (a)(4)(vi): Service to INMARSAT-E EPIRB stations terminated on December 1, 2006, so distress signals from INMARSAT-E EPIRB stations will not be received by any Rescue Coordination Center; and

* * * * *

49. Amend § 80.913 by revising paragraph (a) to read as follows:

§ 80.913 Radiotelephone receivers.

(a) If a medium frequency radiotelephone installation is provided, the receiver must be capable of effective reception of J3E emissions, be connected to the antenna system specified by § 80.923, and be preset to, and capable of accurate and convenient selection of, the frequencies 2182 kHz, 2638 kHz, and the receiving frequency(s) of public coast stations serving the area in which the vessel is navigated.

* * * * *

50. Amend § 80.917 by revising paragraph (a) to read as follows:

§ 80.917 Reserve power supply.

(a) The requirements of this section apply

(1) To vessels of more than 100 gross tons; and

(2) Beginning March 25, 2009 to

(i) Vessels that carry more than 150 passengers or have overnight accommodations for more than 49 persons; and

(ii) Vessels that operate on the high seas or more than three miles from shore on Great Lakes voyages. Any such vessel the keel of which was laid after March 1, 1957, must have a reserve power supply located on the same deck as the main wheel house or at least one deck above the vessel's main deck, unless the main power supply is so situated.

* * * * *

§ 80.933 [Amended]

51. Amend § 80.933 by removing paragraphs (c) and (d) and redesignating paragraph (e) as paragraph (c).

52. Section 80.1051 is revised to read as follows:

§ 80.1051 Scope.

This subpart describes the technical and performance requirements for EPIRB stations.

53. Amend § 80.1061 by revising paragraphs (a), (c) introductory text, (c)(1)(ii), and (e) to read as follows:

§ 80.1061 Special requirements for 406.0-406.1 MHz EPIRB stations.

(a) Notwithstanding the provisions in paragraph (b) of this section, 406.0-406.1 MHz EPIRBs must meet all the technical and performance standards contained in the Radio Technical Commission for Maritime Services document entitled RTCM Paper 77-02/SC110-STD, “RTCM Recommended Standards for 406 MHz Satellite Emergency Position-Indicating Radiobeacons (EPIRBs),” Version 2.1, dated June 20, 2002 (RTCM Recommended Standards). The RTCM Recommended Standards are incorporated by reference. The Director of the Federal Register approves this incorporation by reference in accordance with 5 U.S.C. 552(a) and 1 CFR part 51. Copies of the RTCM Recommended Standards can be inspected at the Federal Communications Commission, 445 12th Street, SW., Washington, DC (Reference Information Center) or at the National Archives and Records Administration (NARA). For information on the availability of this material at NARA, call 202-741-6030, or go to: http://www.archives.gov/federal_register/code_of_federal_regulations/ibr_locations.html. The RTCM Recommended Standards can be purchased from the Radio Technical Commission for Maritime Services, 1800 N. Kent St., Suite 1060, Arlington, VA 22209, www.rtcm.org, e-mail at pubs@rtcm.org.

* * * * *

(c) Prior to submitting a certification application for 406.0-406.1 MHz radiobeacon, the radiobeacon must be certified by a test facility recognized by one of the COSPAS-SARSAT Partners that the equipment satisfies the design characteristics associated with the measurement methods described in COSPAS-SARSAT Standards C/S T.001, “Specification for COSPAS-SARSAT 406 MHz Distress Beacons,” Issue 3—Revision 4, October 2002, and C/S T.007, “COSPAS-SARSAT 406 MHz Distress Beacon Type Approval Standard,” Issue 3—Revision 9, October 2002. Additionally, the radiobeacon must be subjected to the environmental and operational tests associated with the test procedures described in Appendix A of RTCM Standard 11000.2 (RTCM Paper 77-2002/SC110-STD, Version 2.1) for 406 MHz Satellite Emergency Position-Indicating Radiobeacons (EPIRBs), June 20, 2002, by a test facility accepted by the U.S. Coast Guard for this purpose. Information regarding accepted test facilities may be obtained from Commandant (G-MSE), U.S. Coast Guard, 2100 2nd St., SW., Washington, DC 20593-0001, http://www.uscg.mil/hq/g-m/mse/lablist/lab161011.pdf. The COSPAS-SARSAT Standards T.001 and T.007, and the RTCM Standard 11000.2 are incorporated by reference. The Director of the Federal Register approves this incorporation by reference in accordance with 5 U.S.C. 552(a) and 1 CFR part 51. Copies of the COSPAS-SARSAT Standards can be inspected at the Federal Communications Commission, 445 12th Street, SW., Washington, DC (Reference Information Center) or at the Office of the Federal Register, 800 North Capitol Street, NW., Suite 700, Washington, DC. The COSPAS-SARSAT Standards may be obtained from COSPAS-SARSAT Secretariat, c/o Inmarsat, 99 City Road, London EC1Y 1AX, United Kingdom, Telephone: +44 20-7728 1391, Facsimile: +44 20-7728 1170; www.cospas-sarsat.org. The RTCM Recommended Standards can be purchased from the Radio Technical Commission for Maritime Services, 1800 N. Kent St., Suite 1060, Arlington, VA 22209, http://www.rtcm.org, e-mail at pubs@rtcm.org.

(1) * * *

(ii) Copies of the certificate and test data obtained from the test facility recognized by a COSPAS/SARSAT Partner showing that the radiobeacon complies with the COSPAS/SARSAT design characteristics associated with the measurement methods described in the COSPAS-SARSAT Standards C/S T.001, “Specification for COSPAS-SARSAT 406 MHz Distress Beacons,” Issue 3—Revision 4, October 2002, and T.007, “COSPAS-SARSAT 406 MHz Distress Beacon Type Approval Standard,” Issue 3—Revision 9, October 2002, and RTCM Paper 77-2002/SC110-STD, “RTCM Standard 11000.2 for 406 MHz Satellite Emergency Position-Indicating Radiobeacons (EPIRBs),” Version 2.1, June 20, 2002. The COSPAS-SARSAT Standards C/S T.001 and T.007, and the RTCM Standard 11000.2 are incorporated by reference. The Director of the Federal Register approves this incorporation by reference in accordance with 5 U.S.C. 552(a) and 1 CFR part 51. Copies of the COSPAS-SARSAT Standards can be inspected at the Federal Communications Commission, 445 12th Street, SW., Washington, DC (Reference Information Center) or at the Office of the Federal Register, 800 North Capitol Street, NW., Suite 700, Washington, DC. The COSPAS-SARSAT Standards may be obtained from COSPAS-SARSAT Secretariat, c/o Inmarsat, 99 City Road, London EC1Y 1AX, United Kingdom, Telephone: +44 20-7728 1391, Facsimile: +44 20-7728 1170; www.cospas-sarsat.org. The RTCM Recommended Standards can be purchased from the Radio Technical Commission for Maritime Services, 1800 N. Kent St., Suite 1060, Arlington, VA 22209, http://www.rtcm.org, e-mail at pubs@rtcm.org;

* * * * *

(e) An identification code, issued by the National Oceanic and Atmospheric Administration (NOAA), the United States Program Manager for the 406.0-406.1 MHz COSPAS/SARSAT satellite system, must be programmed in each EPIRB unit to establish a unique identification for each EPIRB station. With each marketable EPIRB unit, the manufacturer or grantee must include a postage pre-paid registration card printed with the EPIRB identification code addressed to: NOAA/SARSAT Beacon Registration, E/SP3, Federal Building 4, Room 3320, 5200 Auth Road, Suitland, MD 20746-4304. The registration card must request the owner's name, address, telephone number, type of ship, alternate emergency contact and other information as required by NOAA. The registration card must also contain information regarding the availability to register the EPIRB at NOAA's online web-based registration database at: http://www/beaconregistration.noaa.gov. In addition, the following statement must be included: “WARNING—failure to register this EPIRB with NOAA before installation could result in a monetary forfeiture being issued to the owner.”

* * * * *

54. Amend § 80.1063 by adding a note to paragraph (a) to read as follows:

§ 80.1063 Special requirements for INMARSAT-E EPIRB stations.

(a) * * *

Note to paragraph (a): Service to INMARSAT-E EPIRB stations terminated on December 1, 2006, so distress signals from INMARSAT-E EPIRB stations will not be received by any Rescue Coordination Center.

* * * * *

55. Amend § 80.1065 by removing paragraphs (a) and (b)(1) through (b)(6), redesignating paragraphs (b) through (d) as paragraphs (a) through (c), and revising newly designated paragraph (a) to read as follows:

§ 80.1065 Applicability.

(a) The regulations contained within this subpart apply to all passenger ships regardless of size and cargo ships of 300 tons gross tonnage and upwards.

* * * * *

56. Amend § 80.1071 by revising paragraphs (c)(1)(i) and (c)(1)(ii) to read as follows:

§ 80.1071 Exemptions.

* * * * *

(c) * * *

(1) * * *

(i) A VHF radiotelephone installation.

(ii) A MF or HF radiotelephone installation.

* * * * *

57. Amend § 80.1073 by revising paragraph (a) introductory text to read as follows:

§ 80.1073 Radio operator requirements for ship stations.

(a) Ships must carry at least two persons holding GMDSS Radio Operator's Licenses as specified in § 13.7 of this chapter for distress and safety radiocommunications purposes. The GMDSS Radio Operator's License qualifies personnel as a GMDSS radio operator for the purposes of operating a GMDSS radio installation, including basic equipment adjustments as denoted in the knowledge requirements specified in § 13.203 of this chapter.

* * * * *

58. Amend § 80.1077 by removing and reserving footnote 11, and adding footnote 12 to the entry for INMARSAT E-EPIRBs to read as follows:

§ 80.1077 Frequencies.

The following table describes the frequencies used in the Global Maritime Distress and Safety System:

Alerting:

* * * * * * *
INMARSAT-E EPIRBs ¹² | 1626.5-1645.5 MHz (Earth-to-space).
* * * * * * *

* * * * *

¹¹ [Reserved]

* * * * *

¹² Service to INMARSAT-E EPIRB stations terminated on December 1, 2006, so distress signals from INMARSAT-E EPIRB stations will not be received by any Rescue Coordination Center.

59. Amend § 80.1083 by revising paragraph (d) to read as follows:

§ 80.1083 Ship radio installations.

* * * * *

(d) Shipborne Integrated Radiocommunication System (IRCS) may be utilized to integrate all GMDSS equipment into a standard operator's console. Such installation must be certified in accordance with § 80.1103 and meet the requirements of IMO Assembly Resolution A.811(19), “Performance Standards for a Shipborne Integrated Radiocommunication System (IRCS) When Used in the GMDSS,” with Annex, adopted 23 November 1995. IMO Assembly Resolution A.811(19) with Annex is incorporated by reference. The Director of the Federal Register approves this incorporation by reference in accordance with 5 U.S.C. 552(a) and 1 CFR part 51. Copies of this standard can be inspected at the Federal Communications Commission, 445 12th Street, SW., Washington, DC (Reference Information Center) or at the National Archives and Records Administration (NARA). For information on the availability of this material at NARA, call 202-741-6030, or go to: http://www.archives.gov/federal_register/code_of_federal_regulations/ibr_locations.html. The IMO standards can be purchased from Publications, International Maritime Organization, 4 Albert Embankment, London SE1 7SR, United Kingdom.

* * * * *

60. Amend § 80.1085 by revising paragraphs (a)(6)(i) and (a)(6)(iii) to read as follows:

§ 80.1085 Ship radio equipment—General.

* * * * *

(a) * * *

(6) * * *

(i) Capable of transmitting a distress alert through the polar orbiting satellite service operating in the 406.0-406.1 MHz band (406.0-406.1 MHz EPIRB) or, if the ship is not operating in sea area A4, as defined in § 80.1069(a)(4), the 1.6 GHz band (INMARSAT-E EPIRB)

Note to paragraph (a)(6)(1): Service to INMARSAT-E EPIRB stations terminated on December 1, 2006, so distress signals from INMARSAT-E EPIRB stations will not be received by any Rescue Coordination Center; and

* * * * *

(iii) Examined and tested annually in accordance with the IMO standard, Circular MSC/Circ.1040, Guidelines on annual testing of 406 MHz satellite EPIRBs (28 May 2002). See § 80.1105(k). Circular MSC/Circ.1040 is incorporated by reference. The Director of the Federal Register approves this incorporation by reference in accordance with 5 U.S.C. 552(a) and 1 CFR part 51. Copies of these standards can be inspected at the Federal Communications Commission, 445 12th Street, SW., Washington, DC (Reference Information Center) or at the National Archives and Records Administration (NARA). For information on the availability of this material at NARA, call 202-741-6030, or go to http://www.archives.gov/federal_register/code_of_federal_regulations/ibr_locations.html. The IMO standards can be purchased from International Maritime Organization (IMO), Publications, International Maritime Organization, 4 Albert Embankment, London SE1 7SR, United Kingdom; telephone 011 44 71 735 7611.

* * * * *

61. Amend § 80.1087 by revising paragraph (a)(2) to read as follows:

§ 80.1087 Ship radio equipment—Sea Area A1.

* * * * *

(a) * * *

(2) Through the polar orbiting satellite service on 406.0-406.1 MHz or the INMARSAT-E service in the 1.6 GHz band (this requirement may be fulfilled by the EPIRB required by § 80.1085(a)(6), either by installing the EPIRB close to, or by allowing remote activation from, the position from which the ship is normally navigated).

Note to paragraph (a)(2): Service to INMARSAT-E EPIRB stations terminated on December 1, 2006, so distress signals from INMARSAT-E EPIRB stations will not be received by any Rescue Coordination Center; or

* * * * *

62. Amend § 80.1089 by revising paragraph (a)(3)(i) to read as follows:

§ 80.1089 Ship radio equipment—Sea areas A1 and A2.

* * * * *

(a) * * *

(3) * * *

(i) Through the polar orbiting satellite service on 406.0-406.1 MHz or the INMARSAT-E service in the 1.6 GHz band (this requirement may be fulfilled by the EPIRB required by § 80.1085(a)(6), either by installing the EPIRB close to, or by allowing remote activation from, the position from which the ship is normally navigated).

Note to paragraph (a)(3)(i): Service to INMARSAT-E EPIRB stations terminated on December 1, 2006, so distress signals from INMARSAT-E EPIRB stations will not be received by any Rescue Coordination Center; or

* * * * *

63. Amend § 80.1091 by revising paragraphs (a)(1)(i), (a)(4)(i), and (b)(3)(ii) to read as follows:

§ 80.1091 Ship radio equipment—Sea areas A1, A2, and A3.

(a) * * *

(1) * * *

(i) Transmitting and receiving distress and safety data communications;

* * * * *

(4) * * *

(i) Through the polar orbiting satellite service on 406.0-406.1 MHz or the INMARSAT-E service in the 1.6 GHz band (this requirement may be fulfilled by the EPIRB required by § 80.1085(a)(6), either by installing the EPIRB close to, or by allowing remote activation from, the position from which the ship is normally navigated).

Note to paragraph (a)(4)(i): Service to INMARSAT-E EPIRB stations terminated on December 1, 2006, so distress signals from INMARSAT-E EPIRB stations will not be received by any Rescue Coordination Center; or

* * * * *

(b) * * *

(3) * * *

(ii) Through the INMARSAT-E service in the 1.6 GHz band (this requirement may be fulfilled by the EPIRB required by § 80.1085(a)(6), either by installing the EPIRB close to, or by allowing remote activation from, the position from which the ship is normally navigated).

Note to paragraph (b)(3)(ii): Service to INMARSAT-E EPIRB stations terminated on December 1, 2006, so distress signals from INMARSAT-E EPIRB stations will not be received by any Rescue Coordination Center; or

* * * * *

64. Amend § 80.1095 by revising paragraph (a) to read as follows:

§ 80.1095 Survival craft equipment.

(a) At least three two-way VHF radiotelephone apparatus must be provided on every passenger ship and on every cargo ship of 500 tons gross tonnage and upwards. At least two two-way VHF radiotelephone apparatus must be provided on every cargo ship of between 300-500 tons gross tonnage. Portable two-way VHF radiotelephones must be stowed in such locations that they can be rapidly placed in any survival craft other than life rafts required by Regulation III/26.1.4 of the SOLAS Convention. (The SOLAS Convention can be purchased from International Maritime Organization (IMO), Publications, International Maritime Organization, 4 Albert Embankment, London SE1 7SR, United Kingdom; telephone 011 44 71 735 7611, www.imo.org.) Alternatively, survival craft may be fitted with a fixed two-way VHF radiotelephone installation. Two-way VHF radiotelephone apparatus, portable or fixed, must conform to performance standards as specified in § 80.1101.

* * * * *

65. Amend § 80.1101 by revising paragraphs (b)(4), (b)(5), (c)(2)(ii), (c)(3)(ii), (c)(4)(ii), (c)(4)(iii), (c)(5)(iii), (c)(11), (c)(13)(ii), (c)(13)(iii), (c)(13)(iv), (c)(13)(v), (c)(13)(ix), (d)(3), and (d)(4), and adding paragraphs (c)(2)(iii), (c)(3)(iii) and (c)(13)(x) to read as follows:

§ 80.1101 Performance standards.

* * * * *

(b) * * *

(4) IEC 60092-101, Edition 4.1, “Electrical installations in ships—part 101: Definitions and general requirements,” August 2002.

(5) IEC 60533, “Electrical and electronic installations in ships—Electromagnetic compatibility,” November 1999.

* * * * *

(c) * * *

(2) * * *

(ii) ITU-R Recommendation M.493-11, “Digital Selective-calling System for Use in the Maritime Mobile Service,” with Annexes 1 and 2, 2004.

(iii) ITU-R Recommendation M.541-9, “Operational Procedures for the Use of Digital Selective-Calling Equipment in the Maritime Mobile Service,” with Annexes 1 through 5, 2004.

(3) * * *

(ii) ITU-R Recommendation M.493-11, “Digital Selective-calling System for Use in the Maritime Mobile Service,” with Annexes 1 and 2, 2004.

(iii) ITU-R Recommendation M.541-9, “Operational Procedures for the Use of Digital Selective-Calling Equipment in the Maritime Mobile Service,” with Annexes 1 through 5, 2004.

(4) * * *

(ii) ITU-R Recommendation M.493-11, “Digital Selective-calling System for Use in the Maritime Mobile Service,” with Annexes 1 and 2, 2004.

(iii) ITU-R Recommendation M.541-9, “Operational Procedures for the Use of Digital Selective-Calling Equipment in the Maritime Mobile Service,” with Annexes 1 through 5, 2004.

(5) * * *

(iii) ITU-R Recommendation M.633-3, “Transmission characteristics of a satellite emergency position-indicating radiobeacon (satellite EPIRB) system operating through a low polar-orbiting satellite system in the 406 MHz band,” 2000.

* * * * *

(11) INMARSAT-E EPIRBs: Note: Service to INMARSAT-E EPIRB stations terminated on December 1, 2006, so distress signals from INMARSAT-E EPIRB stations will not be received by any Rescue Coordination Center.

(i) IMO Resolution A.812(19), “Performance Standards for Float-Free Satellite EPIRBs Operating Through the Geostationary INMARSAT Satellite System on 1.6 GHz,” adopted 23 November 1995, and Annex, “Recommendation on Performance.”

(ii) IMO Resolution A.662(16), “Performance Standards for Float-Free Release and Activation Arrangements for Emergency Radio Equipment,” with Annex, adopted 19 October 1989.

(iii) Recommendation ITU-R M.632-3, “Transmission Characteristics of a Satellite Emergency Position-Indicating Radio Beacon (Satellite EPIRB) System Operating Through Geostationary Satellites in the 1.6 GHz Band,” 1997.

(iv) IEC 61097-5, First Edition “Global maritime distress and safety system (GMDSS)—part 5: Inmarsat-E Emergency position indicating radio beacon (EPIRB) operating through the Inmarsat system—operational and performance requirements, methods of testing and required test results,” including Annexes A, B, and C, 1997.

(v) The INMARSAT E-EPIRBs must also comply with § 80.1063.

* * * * *

(13) * * *

(ii) IEC 61097-3 Ed 1.0, “Global maritime distress and safety system (GMDSS)—part 3: Digital selective calling (DSC) equipment—Operational and performance requirements, methods of testing and required testing results,” with Annexes, June 1994.

(iii) IEC 61097-4 Ed 1.0, “Global maritime distress and safety system (GMDSS)—part 4: INMARSAT-C Ship Earth Station and INMARSAT enhanced group call (EGC) equipment—Operational and performance requirements, methods of testing and required test results,” November 1994.

(iv) IEC 61097-6, “Global maritime distress and safety system (GMDSS)—part 6: Narrowband direct-printing telegraph equipment for the reception of navigational and meteorological warnings and urgent information to ships (NAVTEX)—Operational and performance requirements, methods of testing and required test results,” February 1995.

(v) IEC 61097-7, “Global maritime distress and safety system (GMDSS)—part 7: Shipborne VHF radiotelephone transmitter and receiver—Operational and performance requirements, methods of testing and required test results,” October 1996.

* * * * *

(ix) IEC 61097-12 Ed 1.0, “Global maritime distress and safety system (GMDSS)—part 12: Survival craft portable two-way VHF radiotelephone apparatus—Operational and performance requirements, methods of testing and required test results,” December 1996.

(x) IEC 61097-13, First edition, “Global maritime distress and safety system (GMDSS)—part 13: INMARSAT F77 ship earth station equipment—Operational and performance requirements, methods of testing and required test results,” May 2003.

(d) * * *

(3) IEC publications can be purchased from the International Electrotechnical Commission, 3 Rue de Varembe, CH-1211 Geneva 20, Switzerland, or from the American National Standards Institute (ANSI) through its NSSN operation (www.nssn.org), at Customer Service, American National Standards Institute, 25 West 43rd Street, New York, NY 10036, telephone (212) 642-4900.

(4) ISO Standards can be purchased from the International Organization for Standardization, 1 Rue de Varembe, CH-1211 Geneva 20, Switzerland, or from the American National Standards Institute (ANSI) through its NSSN operation (www.nssn.org), at Customer Service, American National Standards Institute, 25 West 43rd Street, New York, NY 10036, telephone (212) 642-4900.

* * * * *

66. Amend § 80.1103 by revising paragraph (c) to read as follows:

§ 80.1103 Equipment authorization.

* * * * *

(c) Applicants for verification must attest that the equipment complies with performance standards as specified in § 80.1101 and, where applicable, that measurements have been made that demonstrate the necessary compliance. Submission of representative data demonstrating compliance is not required unless requested by the Commission. An application must include the items listed in §§ 2.953 and 2.955 of this chapter and a copy of the type-approval certification indicating that equipment meets GMDSS standards and includes all peripheral equipment associated with the specific unit under review.

* * * * *

67. Amend § 80.1113 by revising paragraph (b) to read as follows:

§ 80.1113 Transmission of a distress alert.

* * * * *

(b) The format of distress calls and distress messages must be in accordance with ITU-R Recommendation M.493-11, “Digital Selective-calling system for use in the Maritime Mobile Service,” with Annexes 1 and 2, 2004, and ITU-R Recommendation M.541-9, “Operational Procedures for the Use of Digital Selective-Calling Equipment in the Maritime Mobile Service,” with Annexes 1 through 5, 2004, as specified in § 80.1101. ITU-R Recommendation M.493-11, with Annexes 1 and 2, and ITU-R Recommendation M.541-9, with Annexes 1 through 5, 2004, are incorporated by reference. The Director of the Federal Register approves this incorporation by reference in accordance with 5 U.S.C. 552(a) and 1 CFR part 51. Copies of these standards can be inspected at the Federal Communications Commission, 445 12th Street, SW., Washington, DC (Reference Information Center) or at the National Archives and Records Administration (NARA). For information on the availability of this material at NARA, call 202-741-6030, or go to: http://www.archives.gov/federal_register/code_of_federal_regulations/ibr_locations.html. The ITU-R Recommendation can be purchased from the International Telecommunication Union (ITU), Place des Nations, CH-1211 Geneva 20, Switzerland.

* * * * *

68. Amend § 80.1117 by revising paragraph (a) to read as follows:

§ 80.1117 Procedure for receipt and acknowledgement of distress alerts.

(a) Normally, distress calls received using digital selective calling are only acknowledged using a DSC acknowledgement by a coast station. Ships should delay any acknowledgement in order to give sufficient time for a coast station to acknowledge the call. In cases where no acknowledgement has been heard and no distress traffic has been heard, the ship should transmit a distress alert relay to the coast station. Upon advice from the Rescue Coordination Center, the ship may transmit a DSC acknowledgement call to stop it from being repeated. Acknowledgement by digital selective calling of receipt of a distress alert in the terrestrial services must comply with ITU-R Recommendation M.541-9, “Operational Procedures for the Use of Digital Selective-Calling Equipment in the Maritime Mobile Service,” with Annexes 1 through 5, 2004. ITU-R Recommendation M.541-9 with Annexes is incorporated by reference. The Director of the Federal Register approves this incorporation by reference in accordance with 5 U.S.C. 552(a) and 1 CFR part 51. Copies of this standard can be inspected at the Federal Communications Commission, 445 12th Street, SW., Washington, DC (Reference Information Center) or at the National Archives and Records Administration (NARA). For information on the availability of this material at NARA, call 202-741-6030, or go to: http://www.archives.gov/federal_register/code_of_federal_regulations/ibr_locations.html. The ITU-R Recommendation can be purchased from the International Telecommunication Union (ITU), Place des Nations, CH-1211 Geneva 20, Switzerland.

* * * * *

69. Amend § 80.1123 by removing paragraph (d), redesignating paragraphs (e) and (f) as paragraphs (d) and (e), and revising paragraph (c) to read as follows:

§ 80.1123 Watch requirements for ship stations.

* * * * *

(c) Every ship while at sea must maintain, when practicable, a continuous listening watch on VHF Channel 16. This watch must be kept at the position from which the ship is normally navigated or at a position which is continuously manned.

* * * * *

70. Amend § 80.1125 by revising paragraph (j)(6) to read as follows:

§ 80.1125 Search and rescue coordinating communications.

* * * * *

(j) * * *

(6) The name and call sign of the mobile station which was in distress; and

* * * * *

71. Section 80.1153 is revised to read as follows:

§ 80.1153 Station log and radio watches.

(a) Licensees of voluntary ships are not required to maintain radio station logs.

(b) When a ship radio station of a voluntary ship is being operated, the appropriate general purpose watches must be maintained in accordance with §§ 80.147 and 80.310.

[FR Doc. E8-903 Filed 1-24-08; 8:45 am]

BILLING CODE 6712-01-P